DEPARTMENT OF HEALTH AND HUMAN SERVICES

Centers for Disease Control and Prevention

National Center for Health Statistics (NCHS), ICD-10 Coordination and Maintenance (C&M) Committee Meeting

AGENCY: Centers for Disease Control and Prevention (CDC), Department of Health and Human Services (HHS).

ACTION: Notice of meeting.

SUMMARY: The CDC, National Center for Health Statistics (NCHS), Classifications and Public Health Data Standards Staff, announces the following meeting of the ICD-10 Coordination and Maintenance (C&M) Committee meeting. This meeting is open to the public, limited only by the space available. The meeting room accommodates approximately 240 people. We will be broadcasting the meeting live via Webcast at hhtp://www.cms.gov/live/.

DATES: The meeting will be held on September 11, 2018, 9:00 a.m. to 5:00 p.m. EDT and September 12, 2018, 9:00 a.m. to 5:00 p.m. EDT.

ADDRESSES: Centers for Medicare and Medicaid Services (CMS) Auditorium, 7500 Security Boulevard, Baltimore, Maryland 21244.

FOR FURTHER INFORMATION CONTACT: Traci Ramirez, Program Specialist, CDC, 3311 Toledo Rd., Hyattsville, MD 20782 telephone (301) 458-4454; email address TRamirez@cdc.gov.

SUPPLEMENTARY INFORMATION: Purpose: The ICD-10 Coordination and Maintenance (C&M) Committee is a public forum for the presentation of proposed modifications to the International Classification of Diseases, Tenth Revision, Clinical Modification and ICD-10 Procedure Coding System.

Matters To Be Considered: The agenda will include discussions on ICD-10-PCS Topics:

Intraoperative Fluorescence Vascular Angiography for Lymphatic Mapping in Cervical and Uterine Cancers

Insertion of Intramedullary Nail Limb Lengthening System

Cell Suspension Autografting—REPEAT

Subcutaneous Implantable Defibrillator System

Administration of erdafitinib

Administration of esketamine hydrochloride nasal spray, for intranasal use

Administration of ERLEADATM (apalutamide), for oral use

Addenda and Key Updates

ICD-10-CM Topics

Deep Vein Thrombosis

Dravet Syndrome

Latent Tuberculosis Infection

Pressure ulcer of mucosal membrane by site

ICD-10-CM Addendum

Agenda items are subject to change as priorities dictate.

Security Considerations: Due to increased security requirements, CMS has instituted stringent procedures for entrance into the building by non-government employees.

Attendees will need to present valid government-issued picture identification, and sign-in at the security desk upon entering the building.

Attendees who wish to attend the September 11-12, 2018, ICD-10-CM C&M meeting must submit their name and organization by September 3, 2018, for inclusion on the visitor list. This visitor list will be maintained at the front desk of the CMS building and used by the guards to admit visitors to the meeting.

Participants who attended previous Coordination and Maintenance meetings will no longer be automatically added to the visitor list. You must request inclusion of your name prior to each meeting you wish attend.

Please register to attend the meeting on-line at: http://www.cms.hhs.gov/apps/events/.

Please contact Mady Hue (410-786-4510) or Marilu.hue@cms.hhs.gov for questions about the registration process.

Note: CMS and NCHS no longer provide paper copies of handouts for the meeting. Electronic copies of all meeting materials will be posted on the CMS and NCHS websites prior to the meeting at http://www.cms.hhs.gov/ICD9ProviderDiagnosticCodes/03_meetings.asp#TopOfPage and https://www.cdc.gov/nchs/icd/icd10cm_maintenance.htm.

The Director, Management Analysis and Services Office, has been delegated the authority to sign Federal Register notices pertaining to announcements of meetings and other committee management activities, for both the Centers for Disease Control and Prevention, and the Agency for Toxic Substances and Disease Registry.

Dia Taylor,
Acting Chief Operating Officer, Centers for Disease Control and Prevention.

[FR Doc. 2018-16102 Filed 7-26-18; 8:45 am]

BILLING CODE 4160-18-P